Title 3—

The President

Presidential Determination No. 2005-01 of October 7, 2004

Determination Pursuant to Section 2(c)(1) of the Migration and Refugee Assistance Act of 1962, as Amended

Memorandum for the Secretary of State

Pursuant to section 2(c)(1) of the Migration and Refugee Assistance Act of 1962, as amended, 22 U.S.C. 2601(c)(1), I hereby determine that it is important to the national interest that up to $8 million be made available from the U.S. Emergency Refugee and Migration Assistance Fund to meet unexpected urgent refugee and migration needs related to the Burundi refugee repatriation and reintegration. These funds may be used, as appropriate, to provide contributions to international, governmental, and nongovernmental organizations, and, as necessary, for administrative expenses of the Bureau of Population, Refugees, and Migration.

You are authorized and directed to inform the appropriate committees of the Congress of this determination and the obligation of funds under this authority, and to arrange for the publication of this memorandum in the Federal Register.

B

THE WHITE HOUSE,

Washington, October 7, 2004.

[FR Doc. 04-24130

Filed 10-26-04; 8:45 am]

Billing code 4710-10-P